DEPARTMENT OF ENERGY

Federal Energy Regulatory Commission

[Docket No. RP04-409-000]

Pogo Producing Company; Notice of Alternative Dispute Resolution Meeting

July 29, 2004.

By order issued July 26, 2004, in the above-captioned docket, the Commission directed the Dispute Resolution Service (DRS) to convene a meeting with the parties by July 28, 2004. As a result of the meeting the DRS convened on July 28, 2004, the parties agreed to mediation. Accordingly, a mediation session will be held beginning at 3 p.m. c.s.t. (4 p.m. e.s.t.) on July 29, 2004, at the Shell Complex, 200 N. Diary Ashford, Houston, TX 77079. The mediation is expected to continue through Friday, July 30, 2004. If you have any questions regarding this mediation, please contact Richard Miles at (202) 502-8702.

Magalie R. Salas,
Secretary.

[FR Doc. E4-1726 Filed 8-3-04; 8:45 am]

BILLING CODE 6717-01-P